DEPARTMENT OF HEALTH AND HUMAN SERVICES

Centers for Medicare and Medicaid Services

[Document Identifier: CMS-855]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with 5 U.S.C. 1395g and 42 CFR 413.20 and 413.24. We cannot reasonably comply with the normal clearance procedures because the approval for this collection lapsed; having approval for the forms is vital to the Medicare program. If we are unable to require specific information from providers and suppliers that want to enroll in Medicare in order to participate in the program, we will have little control over what information they give us without going through a potentially long and drawn out process by going back repeatedly to gather necessary information from the potential providers and suppliers. The alternative would be to accept any supplier or provider for participation in the program, which might result in having otherwise unacceptable providers and suppliers furnishing services to our beneficiaries.

CMS is requesting OMB review and approval of this collection by April 26, 2002, with a 180-day approval period. Written comments and recommendations will be accepted from the public if received by the individuals designated below by April 22, 2002. We published a separate Federal Register notice announcing the initiation of an extensive 60-day agency review and public comment period on these requirements on February 8, 2002. We will submit the requirements for OMB review and an extension of this emergency approval during the 180-day approval period.

Type of Information Collection Request: Reinstatement of a previously approved collection.

Title of Information Collection: Medicare Federal Health Care Programs Provider/Supplier Enrollment Application.

Form No.: HCFA-855 (OMB# 0938-0685).

Use: This information is needed to enroll providers and suppliers into the Medicare program by identifying them, pricing and paying their claims, and verifying their qualifications and eligibility to participate in Medicare.

Frequency: Initial enrollment/recertification and every three years.

Affected Public: Business or other for-profit, Individuals or Households, and Not-for-profit institutions.

Number of Respondents: 1,300,000.

Total Annual Responses: 604,000.

Total Annual Hours: 435,000.

We have submitted a copy of this notice to OMB for its review of these information collections. A notice will be published in the Federal Register when approval is obtained.

To obtain copies of the supporting statement and any related forms for the proposed paperwork collections referenced above, access CMS's Web Site address at http://www.hcfa.gov/regs/prdact95.htm, or e-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below, by April 22, 2002.

Centers for Medicare and Medicaid Services, Office of Information Services, Security and Standards Group, Division of CMS Enterprise Standards, Room N2-14-26, 7500 Security Boulevard, Baltimore, MD 21244-1850, Fax Number: (410) 786-0262, Attn: Julie Brown, CMS-855, and

Office of Information and Regulatory Affairs, Office of Management and Budget, Room 10235, New Executive Office Building, Washington, DC 20503, Fax Number: (202) 395-6974 or (202) 395-5167, Attn: Allison Eydt, CMS Desk Officer.

Dated: April 3, 2002.
John P. Burke, III,
CMS Reports Clearance Officer, CMS, Office of Information Services, Security and Standards Group, Division of CMS Enterprise Standards.

[FR Doc. 02-8824 Filed 4-10-02; 8:45 am]

BILLING CODE 4120-03-P